COMMITTEE FOR PURCHASE FROM PEOPLE WHO ARE BLIND OR SEVERELY DISABLED

Procurement List; Proposed Additions and Deletions

AGENCY: Committee for Purchase From People Who Are Blind or Severely Disabled.

ACTION: Proposed Additions to and Deletions from the Procurement List.

SUMMARY: The Committee is proposing to add products to the Procurement List that will be furnished by nonprofit agency employing persons who are blind or have other severe disabilities, and deletes products previously furnished by such agencies.

DATES: Comments must be received on or before: November 4, 2018.

ADDRESSES: Committee for Purchase From People Who Are Blind or Severely Disabled, 1401 S. Clark Street, Suite 715, Arlington, Virginia, 22202-4149.

FOR FURTHER INFORMATION CONTACT: For further information or to submit comments contact: Michael R. Jurkowski, Telephone: (703) 603-2117, Fax: (703) 603-0655, or email CMTEFedReg@AbilityOne.gov.

SUPPLEMENTARY INFORMATION: This notice is published pursuant to 41 U.S.C. 8503 (a)(2) and 41 CFR 51-2.3. Its purpose is to provide interested persons an opportunity to submit comments on the proposed actions.

Additions

If the Committee approves the proposed additions, the entities of the Federal Government identified in this notice will be required to procure the products listed below from nonprofit agency employing persons who are blind or have other severe disabilities. The following products are proposed for addition to the Procurement List for production by the nonprofit agencies listed:

Product(s)

NSN(s)—Product Name(s): 8455-00-NIB-0139—Name Tape, Embroidered, USAF, Tigerstripe 8455-00-NIB-0140—Service Tape, Embroidered, USAF, Tigerstripe 8455-00-NIB-0141—Name Tags, Plastic, Engraved, USAF, Blue

Mandatory for: 100% of the requirement of the U.S. Air Force

Mandatory Source of Supply: Lions Industries for the Blind, Inc., Kinston, NC

Contracting Activity: DEPT OF THE AIR FORCE, FA3016 502 CONS CL JBSA

Distribution: C-List

Deletions

The following products are proposed for deletion from the Procurement List:

Product(s)

NSN(s)—Product Name(s):

8410-00-NIB-0002—Coat, Airman's Battle Uniform, USAF, Woman's, Camouflage, 2 Long

8410-00-NIB-0003—Coat, Airman's Battle Uniform, USAF, Woman's, Camouflage, 4 Long

8410-00-NIB-0004—Coat, Airman's Battle Uniform, USAF, Woman's, Camouflage, 18 X-Short

8410-00-NIB-0005—Coat, Airman's Battle Uniform, USAF, Woman's, Camouflage, 20 X-Short

8410-00-NIB-0006—Coat, Airman's Battle Uniform, USAF, Woman's, Camouflage, 20 Short

8410-00-NIB-0007—Coat, Airman's Battle Uniform, USAF, Woman's, Camouflage, 20 Long

8410-01-536-2974—Coat, Airman's Battle Uniform, USAF, Woman's, Camouflage, 2 Short

8410-01-536-2977—Coat, Airman's Battle Uniform, USAF, Woman's, Camouflage, 2 Regular

8410-01-536-2980—Coat, Airman's Battle Uniform, USAF, Woman's, Camouflage, 4 X-Short

8410-01-536-2982—Coat, Airman's Battle Uniform, USAF, Woman's, Camouflage, 4 Short

8410-01-536-2994—Coat, Airman's Battle Uniform, USAF, Woman's, Camouflage, 4 Regular

8410-01-536-3000—Coat, Airman's Battle Uniform, USAF, Woman's, Camouflage, 6 X-Short

8410-01-536-3760—Coat, Airman's Battle Uniform, USAF, Woman's, Camouflage, 6 Short

8410-01-536-3763—Coat, Airman's Battle Uniform, USAF, Woman's, Camouflage, 6 Regular

8410-01-536-3769—Coat, Airman's Battle Uniform, USAF, Woman's, Camouflage, 8 X-Short

8410-01-536-3772—Coat, Airman's Battle Uniform, USAF, Woman's, Camouflage, 8 Short

8410-01-536-3776—Coat, Airman's Battle Uniform, USAF, Woman's, Camouflage, 8 Regular

8410-01-536-3779—Coat, Airman's Battle Uniform, USAF, Woman's, Camouflage, 6 Long

8410-01-536-3782—Coat, Airman's Battle Uniform, USAF, Woman's, Camouflage, 8 Long

8410-01-536-3784—Coat, Airman's Battle Uniform, USAF, Woman's, Camouflage, 10 X-Short

8410-01-536-3787—Coat, Airman's Battle Uniform, USAF, Woman's, Camouflage, 10 Short

8410-01-536-3789—Coat, Airman's Battle Uniform, USAF, Woman's, Camouflage, 10 Regular

8410-01-536-3792—Coat, Airman's Battle Uniform, USAF, Woman's, Camouflage, 10 Long

8410-01-536-3793—Coat, Airman's Battle Uniform, USAF, Woman's, Camouflage, 12 X-Short

8410-01-536-3795—Coat, Airman's Battle Uniform, USAF, Woman's, Camouflage, 12 Short

8410-01-536-3797—Coat, Airman's Battle Uniform, USAF, Woman's, Camouflage, 12 Regular

8410-01-536-3799—Coat, Airman's Battle Uniform, USAF, Woman's, Camouflage, 12 Long

8410-01-536-3800—Coat, Airman's Battle Uniform, USAF, Woman's, Camouflage, 14 X-Short

8410-01-536-3803—Coat, Airman's Battle Uniform, USAF, Woman's, Camouflage, 14 Short

8410-01-536-3804—Coat, Airman's Battle Uniform, USAF, Woman's, Camouflage, 14 Regular

8410-01-536-3805—Coat, Airman's Battle Uniform, USAF, Woman's, Camouflage, 14 Long

8410-01-536-3807—Coat, Airman's Battle Uniform, USAF, Woman's, Camouflage, 16 X-Short

8410-01-536-3808—Coat, Airman's Battle Uniform, USAF, Woman's, Camouflage, 16 Short

8410-01-536-3812—Coat, Airman's Battle Uniform, USAF, Woman's, Camouflage, 16 Regular

8410-01-536-3814—Coat, Airman's Battle Uniform, USAF, Woman's, Camouflage, 16 Long

8410-01-536-3816—Coat, Airman's Battle Uniform, USAF, Woman's, Camouflage, 18 Short

8410-01-536-3819—Coat, Airman's Battle Uniform, USAF, Woman's, Camouflage, 18 Regular

8410-01-536-3822—Coat, Airman's Battle Uniform, USAF, Woman's, Camouflage, 18 Long

8410-01-536-3825—Coat, Airman's Battle Uniform, USAF, Woman's, Camouflage, 20 Regular

8415-00-NIB-0489—Coat, Airman's Battle Uniform, USAF, Man's, Camouflage, 32 X-Long

8415-00-NIB-0490—Coat, Airman's Battle Uniform, USAF, Man's, Camouflage, 44 X-Short

8415-00-NIB-0491—Coat, Airman's Battle Uniform, USAF, Man's, Camouflage, 46 X-Short

8415-00-NIB-0492—Coat, Airman's Battle Uniform, USAF, Man's, Camouflage, 48 X-Short

8415-00-NIB-0493—Coat, Airman's Battle Uniform, USAF, Man's, Camouflage, 48 X-Long

8415-00-NIB-0494—Coat, Airman's Battle Uniform, USAF, Man's, Camouflage, 50 X-Long

8415-01-535-4170—Coat, Airman's Battle Uniform, USAF, Man's, Camouflage, 32 X-Short

8415-01-536-4134—Coat, Airman's Battle Uniform, USAF, Man's, Camouflage, 32 Short

8415-01-536-4170—Coat, Airman's Battle Uniform, USAF, Man's, Camouflage, 32 X-Short

8415-01-536-4178—Coat, Airman's Battle Uniform, USAF, Man's, Camouflage, 32 Regular

8415-01-536-4180—Coat, Airman's Battle Uniform, USAF, Man's, Camouflage, 32 Long

8415-01-536-4182—Coat, Airman's Battle Uniform, USAF, Man's, Camouflage, 34 X-Short

8415-01-536-4184—Coat, Airman's Battle Uniform, USAF, Man's, Camouflage, 34 Short

8415-01-536-4188—Coat, Airman's Battle Uniform, USAF, Man's, Camouflage, 34 Regular

8415-01-536-4189—Coat, Airman's Battle Uniform, USAF, Man's, Camouflage, 34 Long

8415-01-536-4192—Coat, Airman's Battle Uniform, USAF, Man's, Camouflage, 34 X-Long

8415-01-536-4193—Coat, Airman's Battle Uniform, USAF, Man's, Camouflage, 36 X-Short

8415-01-536-4197—Coat, Airman's Battle Uniform, USAF, Man's, Camouflage, 36 Short

8415-01-536-4224—Coat, Airman's Battle Uniform, USAF, Man's, Camouflage, 36 Regular

8415-01-536-4227—Coat, Airman's Battle Uniform, USAF, Man's, Camouflage, 36 Long

8415-01-536-4237—Coat, Airman's Battle Uniform, USAF, Man's, Camouflage, 36 X-Long

8415-01-536-4239—Coat, Airman's Battle Uniform, USAF, Man's, Camouflage, 38 X-Short

8415-01-536-4241—Coat, Airman's Battle Uniform, USAF, Man's, Camouflage, 38 Short

8415-01-536-4367—Coat, Airman's Battle Uniform, USAF, Man's, Camouflage, 38 Regular

8415-01-536-4369—Coat, Airman's Battle Uniform, USAF, Man's, Camouflage, 38 Long

8415-01-536-4571—Coat, Airman's Battle Uniform, USAF, Man's, Camouflage, 38 X-Long

8415-01-536-4572—Coat, Airman's Battle Uniform, USAF, Man's, Camouflage, 40 X-Short

8415-01-536-4573—Coat, Airman's Battle Uniform, USAF, Man's, Camouflage, 40 Short

8415-01-536-4574—Coat, Airman's Battle Uniform, USAF, Man's, Camouflage, 40 Regular

8415-01-536-4576—Coat, Airman's Battle Uniform, USAF, Man's, Camouflage, 40 Long

8415-01-536-4577—Coat, Airman's Battle Uniform, USAF, Man's, Camouflage, 40 X-Long

8415-01-536-4578—Coat, Airman's Battle Uniform, USAF, Man's, Camouflage, 42 X-Short

8415-01-536-4581—Coat, Airman's Battle Uniform, USAF, Man's, Camouflage, 42 Short

8415-01-536-4583—Coat, Airman's Battle Uniform, USAF, Man's, Camouflage, 42 Regular

8415-01-536-4584—Coat, Airman's Battle Uniform, USAF, Man's, Camouflage, 42 Long

8415-01-536-4585—Coat, Airman's Battle Uniform, USAF, Man's, Camouflage, 42 X-Long

8415-01-536-4586—Coat, Airman's Battle Uniform, USAF, Man's, Camouflage, 44 Short

8415-01-536-4588—Coat, Airman's Battle Uniform, USAF, Man's, Camouflage, 50 X-Short

8415-01-536-4590—Coat, Airman's Battle Uniform, USAF, Man's, Camouflage, 44 Regular

8415-01-536-4591—Coat, Airman's Battle Uniform, USAF, Man's, Camouflage, 44 Long

8415-01-536-4592—Coat, Airman's Battle Uniform, USAF, Man's, Camouflage, 44 X-Long

8415-01-536-4593—Coat, Airman's Battle Uniform, USAF, Man's, Camouflage, 46 Short

8415-01-536-4596—Coat, Airman's Battle Uniform, USAF, Man's, Camouflage, 46 Regular

8415-01-536-4600—Coat, Airman's Battle Uniform, USAF, Man's, Camouflage, 46 Long

8415-01-536-4606—Coat, Airman's Battle Uniform, USAF, Man's, Camouflage, 46 X-Long

8415-01-536-4639—Coat, Airman's Battle Uniform, USAF, Man's, Camouflage, 48 Short

8415-01-536-4640—Coat, Airman's Battle Uniform, USAF, Man's, Camouflage, 48 Regular

8415-01-536-4651—Coat, Airman's Battle Uniform, USAF, Man's, Camouflage, 48 Long

8415-01-536-4674—Coat, Airman's Battle Uniform, USAF, Man's, Camouflage, 50 Short

8415-01-536-4682—Coat, Airman's Battle Uniform, USAF, Man's, Camouflage, 50 Regular

8415-01-536-4712—Coat, Airman's Battle Uniform, USAF, Man's, Camouflage, 50 Long

8410-00-NIB-0008—Trousers, Airman's Battle Uniform, USAF, Woman's, Camouflage, 2 X-Short

8410-00-NIB-0009—Trousers, Airman's Battle Uniform, USAF, Woman's, Camouflage, 2 Long

8410-00-NIB-0010—Trousers, Airman's Battle Uniform, USAF, Woman's, Camouflage, 18 X-Short

8410-00-NIB-0011—Trousers, Airman's Battle Uniform, USAF, Woman's, Camouflage, 20 X-Short

8410-00-NIB-0012—Trousers, Airman's Battle Uniform, USAF, Woman's, Camouflage, 20 Short

8410-00-NIB-0015—Trousers, Airman's Battle Uniform, USAF, Woman's, Camouflage, 4 Long

8410-00-NIB-0016—Trousers, Airman's Battle Uniform, USAF, Woman's, Camouflage, 22 X-Short

8410-00-NIB-0017—Trousers, Airman's Battle Uniform, USAF, Woman's, Camouflage, 22 Short

8410-01-536-2711—Trousers, Airman's Battle Uniform, USAF, Woman's, Camouflage, 2 Regular

8410-01-536-2714—Trousers, Airman's Battle Uniform, USAF, Woman's, Camouflage, 4 X-Short

8410-01-536-2715—Trousers, Airman's Battle Uniform, USAF, Woman's, Camouflage, 4 Regular

8410-01-536-2718—Trousers, Airman's Battle Uniform, USAF, Woman's, Camouflage, 6 X-Short

8410-01-536-2719—Trousers, Airman's Battle Uniform, USAF, Woman's, Camouflage, 6 Short

8410-01-536-2720—Trousers, Airman's Battle Uniform, USAF, Woman's, Camouflage, 6 Regular

8410-01-536-2721—Trousers, Airman's Battle Uniform, USAF, Woman's, Camouflage, 6 Long

8410-01-536-2723—Trousers, Airman's Battle Uniform, USAF, Woman's, Camouflage, 8 X-Short

8410-01-536-2725—Trousers, Airman's Battle Uniform, USAF, Woman's, Camouflage, 8 Short

8410-01-536-2734—Trousers, Airman's Battle Uniform, USAF, Woman's, Camouflage, 8 Regular

8410-01-536-2736—Trousers, Airman's Battle Uniform, USAF, Woman's, Camouflage, 8 Long

8410-01-536-2739—Trousers, Airman's Battle Uniform, USAF, Woman's, Camouflage, 10 X-Short

8410-01-536-2740—Trousers, Airman's Battle Uniform, USAF, Woman's, Camouflage, 10 Short

8410-01-536-2742—Trousers, Airman's Battle Uniform, USAF, Woman's, Camouflage, 10 Regular

8410-01-536-2744—Trousers, Airman's Battle Uniform, USAF, Woman's, Camouflage, 10 Long

8410-01-536-2746—Trousers, Airman's Battle Uniform, USAF, Woman's, Camouflage, 12 X-Short

8410-01-536-2748—Trousers, Airman's Battle Uniform, USAF, Woman's, Camouflage, 12 Short

8410-01-536-2749—Trousers, Airman's Battle Uniform, USAF, Woman's, Camouflage, 12 Regular

8410-01-536-2752—Trousers, Airman's Battle Uniform, USAF, Woman's, Camouflage, 12 Long

8410-01-536-2754—Trousers, Airman's Battle Uniform, USAF, Woman's, Camouflage, 14 X-Short

8410-01-536-2756—Trousers, Airman's Battle Uniform, USAF, Woman's, Camouflage, 14 Short

8410-01-536-2760—Trousers, Airman's Battle Uniform, USAF, Woman's, Camouflage, 14 Regular

8410-01-536-2761—Trousers, Airman's Battle Uniform, USAF, Woman's, Camouflage, 14 Long

8410-01-536-2765—Trousers, Airman's Battle Uniform, USAF, Woman's, Camouflage, 16 X-Short

8410-01-536-2766—Trousers, Airman's Battle Uniform, USAF, Woman's, Camouflage, 16 Short

8410-01-536-2770—Trousers, Airman's Battle Uniform, USAF, Woman's, Camouflage, 16 Regular

8410-01-536-2771—Trousers, Airman's Battle Uniform, USAF, Woman's, Camouflage, 16 Long

8410-01-536-2773—Trousers, Airman's Battle Uniform, USAF, Woman's, Camouflage, 18 Short

8410-01-536-2774—Trousers, Airman's Battle Uniform, USAF, Woman's, Camouflage, 18 Regular

8410-01-536-2778—Trousers, Airman's Battle Uniform, USAF, Woman's, Camouflage, 18 Long

8410-01-536-2780—Trousers, Airman's Battle Uniform, USAF, Woman's, Camouflage, 20 Regular

8410-01-536-2783—Trousers, Airman's Battle Uniform, USAF, Woman's, Camouflage, 20 Long

8410-01-536-2785—Trousers, Airman's Battle Uniform, USAF, Woman's, Camouflage, 22 Regular

8410-01-536-2801—Trousers, Airman's Battle Uniform, USAF, Woman's, Camouflage, 4 Short

8410-01-NIB-0014—Trousers, Airman's Battle Uniform, USAF, Woman's, Camouflage, 22 Long

8415-00-NIB-0495—Trousers, Airman's Battle Uniform, USAF, Man's, Camouflage, 42 X-Short

8415-00-NIB-0496—Trousers, Airman's Battle Uniform, USAF, Man's, Camouflage, 42 X-Long

8415-00-NIB-0497—Trousers, Airman's Battle Uniform, USAF, Man's, Camouflage, 44 X-Short

8415-00-NIB-0498—Trousers, Airman's Battle Uniform, USAF, Man's, Camouflage, 44 Long

8415-00-NIB-0499—Trousers, Airman's Battle Uniform, USAF, Man's, Camouflage, 46 X-Short

8415-00-NIB-0500—Trousers, Airman's Battle Uniform, USAF, Man's, Camouflage, 46 Short

8415-00-NIB-0501—Trousers, Airman's Battle Uniform, USAF, Man's, Camouflage, 46 X-Long

8415-00-NIB-0502—Trousers, Airman's Battle Uniform, USAF, Man's, Camouflage, 44 X-Long

8415-01-536-3759—Trousers, Airman's Battle Uniform, USAF, Man's, Camouflage, 28 Short

8415-01-536-3774—Trousers, Airman's Battle Uniform, USAF, Man's, Camouflage, 28 Regular

8415-01-536-3777—Trousers, Airman's Battle Uniform, USAF, Man's, Camouflage, 28 Long

8415-01-536-3791—Trousers, Airman's Battle Uniform, USAF, Man's, Camouflage, 28 X-Long

8415-01-536-3794—Trousers, Airman's Battle Uniform, USAF, Man's, Camouflage, 30 Short

8415-01-536-3809—Trousers, Airman's Battle Uniform, USAF, Man's, Camouflage, 30 X-Short

8415-01-536-3817—Trousers, Airman's Battle Uniform, USAF, Man's, Camouflage, 30 Regular

8415-01-536-3821—Trousers, Airman's Battle Uniform, USAF, Man's, Camouflage, 30 Long

8415-01-536-3823—Trousers, Airman's Battle Uniform, USAF, Man's, Camouflage, 30 X-Long

8415-01-536-3826—Trousers, Airman's Battle Uniform, USAF, Man's, Camouflage, 32 X-Short

8415-01-536-3830—Trousers, Airman's Battle Uniform, USAF, Man's, Camouflage, 32 Short

8415-01-536-3833—Trousers, Airman's Battle Uniform, USAF, Man's, Camouflage, 32 Regular

8415-01-536-3836—Trousers, Airman's Battle Uniform, USAF, Man's, Camouflage, 32 Long

8415-01-536-3844—Trousers, Airman's Battle Uniform, USAF, Man's, Camouflage, 32 X-Long

8415-01-536-3846—Trousers, Airman's Battle Uniform, USAF, Man's, Camouflage, 34 X-Short

8415-01-536-3849—Trousers, Airman's Battle Uniform, USAF, Man's, Camouflage, 34 Short

8415-01-536-3855—Trousers, Airman's Battle Uniform, USAF, Man's, Camouflage, 34 Regular

8415-01-536-3869—Trousers, Airman's Battle Uniform, USAF, Man's, Camouflage, 34 Long

8415-01-536-3874—Trousers, Airman's Battle Uniform, USAF, Man's, Camouflage, 34 X-Long

8415-01-536-3880—Trousers, Airman's Battle Uniform, USAF, Man's, Camouflage, 36 X-Short

8415-01-536-3890—Trousers, Airman's Battle Uniform, USAF, Man's, Camouflage, 40 X-Short

8415-01-536-3893—Trousers, Airman's Battle Uniform, USAF, Man's, Camouflage, 36 Short

8415-01-536-3903—Trousers, Airman's Battle Uniform, USAF, Man's, Camouflage, 36 Regular

8415-01-536-3905—Trousers, Airman's Battle Uniform, USAF, Man's, Camouflage, 36 Long

8415-01-536-3912—Trousers, Airman's Battle Uniform, USAF, Man's, Camouflage, 36 X-Long

8415-01-536-3916—Trousers, Airman's Battle Uniform, USAF, Man's, Camouflage, 38 X-Short

8415-01-536-3920—Trousers, Airman's Battle Uniform, USAF, Man's, Camouflage, 38 Short

8415-01-536-3927—Trousers, Airman's Battle Uniform, USAF, Man's, Camouflage, 38 Regular

8415-01-536-3935—Trousers, Airman's Battle Uniform, USAF, Man's, Camouflage, 38 Long

8415-01-536-4021—Trousers, Airman's Battle Uniform, USAF, Man's, Camouflage, 38 X-Long

8415-01-536-4067—Trousers, Airman's Battle Uniform, USAF, Man's, Camouflage, 40 Short

8415-01-536-4071—Trousers, Airman's Battle Uniform, USAF, Man's, Camouflage, 40 Regular

8415-01-536-4073—Trousers, Airman's Battle Uniform, USAF, Man's, Camouflage, 40 Long

8415-01-536-4075—Trousers, Airman's Battle Uniform, USAF, Man's, Camouflage, 40 X-Long

8415-01-536-4077—Trousers, Airman's Battle Uniform, USAF, Man's, Camouflage, 42 Short

8415-01-536-4081—Trousers, Airman's Battle Uniform, USAF, Man's, Camouflage, 42 Regular

8415-01-536-4088—Trousers, Airman's Battle Uniform, USAF, Man's, Camouflage, 42 Long

8415-01-536-4102—Trousers, Airman's Battle Uniform, USAF, Man's, Camouflage, 44 Regular

8415-01-536-4103—Trousers, Airman's Battle Uniform, USAF, Man's, Camouflage, 44 Short

8415-01-536-4109—Trousers, Airman's Battle Uniform, USAF, Man's, Camouflage, 44 Long

8415-01-536-4111—Trousers, Airman's Battle Uniform, USAF, Man's, Camouflage, 46 Regular

8415-01-536-4121—Trousers, Airman's Battle Uniform, USAF, Man's, Camouflage, 46 Long

Mandatory Sources of Supply: Blind Industries & Services of Maryland, Baltimore, MD

Winston-Salem Industries for the Blind, Inc., Winston-Salem, NC

LC Industries, Inc., Durham, NC

Goodwill Industries of South Florida, Inc., Miami, FL

8410-01-536-2709—Trousers, Airman's Battle Uniform, USAF, Woman's, Camouflage, 2 Short

8415-01-536-3758—Trousers, Airman's Battle Uniform, USAF, Man's, Camouflage, 28 X-Short

Mandatory Sources of Supply: ReadyOne Industries, Inc., El Paso, TX

Blind Industries & Services of Maryland, Baltimore, MD

Winston-Salem Industries for the Blind, Inc., Winston-Salem, NC

LC Industries, Inc., Durham, NC

Goodwill Industries of South Florida, Inc., Miami, FL

Contracting Activity: Defense Logistics Agency Troop Support

NSN(s)—Product Name(s): 7045-01-269-8115—Tape, Electronic Data Processing

7045-01-321-0642—Tape, Electronic Data Processing

Mandatory Source of Supply: North Central Sight Services, Inc., Williamsport, PA

Contracting Activity: Defense Logistics Agency Troop Support

NSN(s)—Product Name(s):

7110-01-657-7729—Whiteboard, Customizable Surface, Magnetic Backing, Aluminum Frame, 47.5″ x 35″

7110-01-657-7733—Whiteboard, Customizable Surface, Magnetic Backing, Aluminum Frame, 37.5″ x 23″

7110-01-657-7738—Whiteboard, Customizable Surface, Magnetic Backing, Aluminum Frame, 12″ x 20.5″

Mandatory Source of Supply: The Lighthouse for the Blind, Inc. (Seattle Lighthouse), Seattle, WA

Contracting Activity: General Services Administration, Philadelphia, PA

NSN(s)—Product Name(s): 6515-00-NIB-0227—Aloud Audio Labels

Mandatory Source of Supply: Central Association for the Blind & Visually Impaired, Utica, NY

Contracting Activity: Department of Veterans Affairs, Strategic Acquisition Center

NSN(s)—Product Name(s): 8465-00-001-6471—(Nylon cloth)

Mandatory Sources of Supply: Alabama Industries for the Blind, Talladega, AL

Georgia Industries for the Blind, Bainbridge, GA

Envision, Inc., Wichita, KS

RLCB, Inc., Raleigh, NC, PA

Virginia Industries for the Blind, Charlottesville, VA

Contracting Activity: Defense Logistics Agency Troop Support

NSN(s)—Product Name(s): 8445-01-242-1009—Necktab, Womens Shirt

Mandatory Source of Supply: BSW, Inc., Butte, MT

Contracting Activity: Defense Logistics Agency Troop Support

Michael R. Jurkowski,
Business Management Specialist, Business Operations.

[FR Doc. 2018-21736 Filed 10-4-18; 8:45 am]

BILLING CODE 6353-01-P